DEPARTMENT OF ENERGY

Federal Energy Regulatory Commission

[Docket No. CP04-412-000]

Northern Natural Gas Company; Notice of Request Under Blanket Authorization

September 23, 2004.

Take notice that on September 17, 2004, Northern Natural Gas Company (Northern), 1111 South 103rd Street, Omaha, Nebraska 68103-0330, filed in Docket No. CP04-412-000, a request pursuant to its blanket certificate issued September 1, 1982, under Docket No. CP82-401-000, for authority under Section 157.208 of the Commission's regulations (18 CFR 157.208) to reduce the maximum allowable operating pressure (MAOP) of the 16-inch diameter Omaha 2nd branchline, located in Sarpy and Douglas Counties, Nebraska.

Northern proposes to reduce the MAOP of the 16-inch diameter Omaha 2nd branchline between milepost 15.448 and milepost 20.700 from 537 psig to 360 psig. Northern states that the proposed reduction of the MAOP will still allow Northern to meet its current contractual firm obligations. Northern asserts that no construction activities will be required to facilitate the MAOP reduction.

Any questions regarding this application should be directed to Michael T. Loeffler, Director, Certificates for Northern Natural Gas Company, 1111 South 103rd Street, Omaha, Nebraska 68124, at (402) 398-7103 or Bret Fritch, Senior Regulatory Analyst, at (402) 398-7140.

This filing is available for review at the Commission or may be viewed on the Commission's Web site at http://www.ferc.gov using the “eLibrary” link. Enter the docket number excluding the last three digits in the docket number field to access the document. For assistance, please contact FERC Online Support at FERCOnlineSupport@ferc.gov or call toll-free at (866) 208-3676, or for TTY, contact (202) 502-8659. Protests, comments and interventions may be filed electronically via the Internet in lieu of paper; see, 18 CFR 385.2001(a)(1)(iii) and the instructions on the Commission's Web site under the “e-Filing” link. The Commission strongly encourages interveners to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed therefore, the proposed activity shall be deemed to be authorized effective the day after the time allowed for filing a protest. If a protest is filed and not withdrawn within 30 days after the time allowed for filing a protest, the instant request shall be treated as an application for authorization pursuant to Section 7 of the Natural Gas Act.

Magalie R. Salas,
Secretary.

[FR Doc. E4-2421 Filed 9-29-04; 8:45 am]

BILLING CODE 6717-01-P